DEPARTMENT OF THE TREASURY

Submission for OMB Review; Comment Request

March 22, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 28, 2000 to be assured of consideration.

Bureau of Alcohol, Tobacco and Firearms (BATF)

OMB Number: 1512-0052.

Form Number: ATF F 5130.9.

Type of Review: Extension.

Title: Brewer's Report of Operations.

Description: ATF F 5130.9 is a periodic report filed by brewers to account for taxable commodities. For this reason, ATF F 5130.9 is a method to protest tax revenue. The data collected on the form is also summarized by ATF in a statistical release.

Respondents: Business of other for-profit.

Estimated Number of Respondents: 879.

Estimated Burden Hours Per Respondent: 1 hour.

Frequency of Response: Quarterly.

Estimated Total Reporting Burden: 4,236 hours.

OMB Number: 1512-0524.

Form Number: ATF F 3310.11.

Type of Review: Extension.

Title: Federal Firearms License Theft/Loss Report.

Description: Theft and losses of firearms from the inventory or collection of a Federal firearms licensee must be reported to the Secretary of Treasury and the appropriate local authorities within 48 hours of discovery. This form contains the minimum information necessary for ATF to initiate criminal investigations.

Respondents: Individuals or households, Business or other for-profit.

Estimated Number of Respondents: 4,000.

Estimated Burden Hours Per Respondent: 24 minutes.

Frequency of Response: On occasion.

Estimated Total Reporting Burden: 1,600 hours.

OMB Number: 1512-0553.

Form Number: None.

Type of Review: Extension.

Title: Strategic Planning Environmental Assessment Outreach

Description: The outreach to ATF stakeholders is part of the Bureau's triennial environmental assessment. The Strategic Planning Office at ATF will use the information to determine the agency's internal strengths and weaknesses and external opportunities and risks.

Respondents: Business or other for-profit, Not-for-profit institutions, Federal Government, State, Local or Tribal Government.

Estimated Number of Respondents: 1,500.

Estimated Burden Hours Per Respondent: 18 minutes.

Frequency of Response: Other (triennial).

Estimated Total Reporting Burden: 450 hours.

Clearance Officer: Robert N. Hogarth (202) 927-8930, Bureau of Alcohol, Tobacco and Firearms, Room 3200 ,650 Massachusetts Avenue, N.W., Washington, DC 20226.

OMB Reviewer: Alexander T. Hunt (202) 395-7860, Office of Management and Budget, Room 10202, New Executive Office Building, Washington, DC 20503.

Lois K. Holland,
Departmental Reports Management Officer.

[FR Doc. 00-7752 Filed 3-28-00; 8:45 am]

BILLING CODE 4810-31-P